DEPARTMENT OF THE INTERIOR

National Park Service

AGENCY: National Park Service.

ACTION: Notice of Availability of a Plan of Operations and Environmental Assessment for a 30-day public review at Cuyahoga Valley National Park, Cuyahoga County, OH.

SUMMARY: The National Park Service (NPS), in accordance with Section 9.52(b) of Title 36 of the Code of Federal Regulations has received from M&M Royalty, Ltd., a Plan of Operations for the purpose of drilling and producing up to four oil/gas wells on the private property of Astorhurst and Prinios in Walton Hills, Ohio. The proposed site is located within the boundaries of Cuyahoga Valley National Park. A Plan of Operations describes the proposed operation, including the equipment, methods and materials to be used in the operation, mitigation measures to protect park resources and values and environmental conditions in the vicinity of the site, and environmental impacts of the proposed operations. When approved, the Plan of Operations serves as the operator's permit to conduct operations in a park. Under the provisions of the National Environmental Policy Act of 1969, the NPS has prepared an Environmental Assessment which evaluates potential impacts associated with the proposed drilling operation located within the park.

DATES: The above documents are available for public review and comment for a period of 30 days from the publication date of this notice in the Federal Register. You may submit your comments by any one of several methods. You may comment via the Internet through the NPS Planning, Environment, and Public Comment (PEPC) Web site (http://parkplanning.nps.gov/cuva); simply click on the link to the Plan of Operations and Environmental Assessment. You may mail comments to Meg Plona, Biologist, at the address shown below. Finally, you may hand-deliver comments to the National Park headquarters at the address shown below.

Before including your address, telephone number, electronic mail address, or other personal identifying information in your comments, you should be aware that your entire comment (including your personal identifying information) may be made publicly available at any time. While you can ask us in your comments to withhold your personal identifying information from public review, we cannot guarantee that we will be able to do so. We will make all submissions from organizations or businesses, from individuals identifying themselves as representatives or officials, of organizations or businesses, available for public inspection in their entirety.

ADDRESSES: Information will be available for public review and comment, either in person or by written request, at park headquarters for Cuyahoga Valley National Park located at 15610 Vaughn Road, Brecksville, Ohio 44141, or at the NPS (PEPC) Web site at http://parkplanning.nps.gov/.

FOR FURTHER INFORMATION CONTACT: Please contact Meg Plona, Biologist, Cuyahoga Valley National Park, 15610 Vaughn Road, Brecksville, Ohio 44141; e-mail: meg_plona@nps.gov; or telephone (330) 342-0764, extension 2.

Alan M. Hutchings,
Acting Director, Midwest Region.

[FR Doc. E9-16333 Filed 7-9-09; 8:45 am]

BILLING CODE 4310-MA-P